DEPARTMENT OF HEALTH AND HUMAN SERVICES

National Institutes of Health

Center for Scientific Review; Cancellation of Meeting

Notice is hereby given of the cancellation of the Center for Scientific Review Special Emphasis Panel, May 25, 2010, 2:30 p.m. to May 25, 2010, 4 p.m., Courtyard Marriott Tysons Corner, 1960-A Chain Bridge Road, McLean, VA 22102 which was published in the Federal Register on April 30, 2010, 75 FR 22819.

The meeting was cancelled due to administration problems.

Dated: May 4, 2010.
Jennifer Spaeth,
Director, Office of Federal Advisory Committee Policy.

[FR Doc. 2010-11046 Filed 5-10-10; 8:45 am]

BILLING CODE 4140-01-P